DEPARTMENT OF COMMERCE

International Trade Administration

[A-570-877]

Notice of Antidumping Duty Order: Lawn and Garden Steel Fence Posts from the People's Republic of China

AGENCY: Import Administration, International Trade Administration, Department of Commerce.

ACTION: Notice of antidumping duty order.

EFFECTIVE DATE: June 12, 2003.

FOR FURTHER INFORMATION CONTACT: Salim Bhabhrawala or Chris Welty, Group II, Office 5, Import Administration, International Trade Administration, U.S. Department of Commerce, 14th Street and Constitution Avenue, NW, Washington, DC 20230; telephone: (202) 482-1784, (202) 482-0186, respectively.

SUPPLEMENTARY INFORMATION:

Case History

On April 25, 2003, the Department of Commerce (the Department) published its final determination in the antidumping duty investigation of lawn and garden steel fence posts from the People's Republic of China (PRC). See Notice of Final Determination of Sales at Less Than Fair Value: Lawn and Garden Steel Fence Posts from the People's Republic of China, 68 FR 20373 (April 25, 2003) (Final Determination).

On June 2, 2003, the International Trade Commission (the ITC) notified the Department of its final determination pursuant to section 735(b)(1)(A)(i) of the Tariff Act of 1930, as amended (the Act), that an industry in the United States is materially injured by reason of less-than-fair-value imports of subject merchandise from the PRC.

Scope of Order

For purposes of this order, the products covered consist of all “U” shaped or “hat” shaped lawn and garden fence posts made of steel and/or any other metal, weighing 1 pound or less per foot, and produced in the PRC. The fence posts included within the scope of this order weigh up to 1 pound per foot and are made of steel and/or any other metal. Imports of these products are classified under the following categories: fence posts, studded with corrugations, knobs, studs, notches or similar protrusions with or without anchor posts and exclude round or square tubing or pipes.

These posts are normally made in two different classes, light and heavy duty. Light duty lawn and garden fence posts are normally made of 14 gauge steel (0.068 inches - 0.082 inches thick), 1.75 inches wide, in 3, 4, 5, or 6 foot lengths. These posts normally weigh approximately 0.45 pounds per foot and are packaged in mini-bundles of 10 posts and master bundles of 400 posts. Heavy duty lawn and garden steel fence posts are normally made of 13 gauge steel (0.082 inches - 0.095 inches thick), 3 inches wide, in 5, 6, 7, and 8 foot lengths. Heavy duty posts normally weigh approximately 0.90 pounds per foot and are packaged in mini-bundles of 5 and master bundles of 200. Both light duty and heavy duty posts are included within the scope of the order.

Imports of these products are classified under the Harmonized Tariff Schedule of the United States (HTSUS) subheading 7326.90.85.35. Fence posts classified under subheading 7308.90 are also included within the scope of the order if the fence posts are made of steel and/or metal.

Specifically excluded from the scope are other posts made of steel and/or other metal including “tee” posts, farm posts, and sign posts, regardless of weight.¹ Although the HTSUS subheadings are provided for convenience and customs purposes, the written description of the merchandise under order is dispositive.

¹ Tee posts are made by rolling red hot steel into a “T” shape. These posts do not have tabs or holes to help secure fencing to them and have primarily farm and industrial uses.

Antidumping Duty Order

On June 2, 2003, in accordance with section 735(d) of the Act, the ITC notified the Department of its final determination that the industry in the United States producing lawn and garden steel fence posts is materially injured within the meaning of section 735(b)(1)(A)(i) of the Act by reason of imports of the subject merchandise from the PRC.

Therefore, in accordance with section 736(a)(1) of the Act, the Department will direct the U.S. Bureau of Customs and Border Protection (BCBP) to assess, upon further advice by the Department, antidumping duties equal to the amount by which the normal value of the subject merchandise exceeds the export price or constructed export price of the subject merchandise for all relevant entries of lawn and garden steel fence posts from the PRC, except for (1) subject merchandise exported by China Nanyang Import & Export Corporation, which was produced by Tianjin Shenyuan Steel Company, Ltd. or Tianjin Sunny Steel Products Company, Ltd., and (2) subject merchandise exported by Shanghai BaoSteel International Economic and Trading Co., Ltd., which was produced by Hangzhou Hongyuan Sporting Goods Co., Ltd., both of which received de minimis antidumping duty margins. The antidumping duties will be assessed on all unliquidated entries of lawn and garden steel fence posts subject to this order, entered, or withdrawn from warehouse, for consumption on or after December 4, 2002, the date of publication of the Department's preliminary determination in the Federal Register. See Notice of Preliminary Determination of Sales at Less Than Fair Value and Postponement of Final Determination: Lawn and Garden Steel Fence Posts from the People's Republic of China, 67 FR 72141 (December 4, 2002). Finally, we will instruct BCBP to liquidate without regard to antidumping duties and to refund all cash deposits or bonds posted on subject merchandise exported by China Nanyang Import & Export Corporation, which was produced by Tianjin Shenyuan Steel Company, Ltd. or Tianjin Sunny Steel Products Company, Ltd.

On or after the date of publication of this notice in the Federal Register, the BCBP must require, at the same time as importers would normally deposit estimated duties, a cash deposit equal to the estimated weighted-average antidumping duty margins as noted below. The “PRC-Wide Rate” rate applies to all non-excluded exporters of subject merchandise not specifically listed. The weighted-average dumping margins are as follows:

Manufacturer/exporter | Weighted-Average Margin (percent)
Hebei Metals and Minerals Imports and Export Corporation | 6.60
PRC-Wide Rate | 15.61

This notice constitutes the antidumping duty order with respect to lawn and garden steel fence posts from the PRC, pursuant to section 736(a) of the Act. Interested parties may contact the Department's Central Records Unit, Room B-099 of the Main Commerce Building, for copies of an updated list of antidumping duty orders currently in effect.

This order is issued and published in accordance with section 736(a) of Act and 19 CFR 351.211(b).

Dated: June 6. 2003.
Joseph A. Spetrini,
Acting Assistant Secretary for Import Administration.

[FR Doc. 03-14887 Filed 6-11-03; 8:45 am]

BILLING CODE 3510-DS-S